NUCLEAR REGULATORY COMMISSION

10 CFR Part 54

[Docket No. PRM-54-1]

Union of Concerned Scientists; Receipt of Petition for Rulemaking

AGENCY: Nuclear Regulatory Commission.

ACTION: Petition for rulemaking; Notice of receipt.

SUMMARY: The Nuclear Regulatory Commission (NRC) has received and requests public comment on a petition for rulemaking filed by the Union of Concerned Scientists (petitioner). The petition has been docketed by the Commission and has been assigned Docket No. PRM-54-1. The petitioner requests that the NRC regulations governing requirements for renewal of operating licenses for nuclear power plants be amended to address potential concerns about aging degradation of liquid and gaseous radioactive waste systems. The petitioner believes the degradation from aging of piping and components of liquid and gaseous radioactive waste systems at nuclear power facilities may result in an increased probability and/or consequences from design and licensing bases events.

DATES: Submit comments by September 25, 2000. Comments received after this date will be considered if it is practical to do so, but assurance of consideration cannot be given except as to comments received on or before this date.

ADDRESSES: Submit comments to: Secretary, U.S. Nuclear Regulatory Commission, Washington, DC 20555. Attention: Rulemaking and Adjudications staff.

Deliver comments to 11555 Rockville Pike, Rockville, Maryland, between 7:30 am and 4:15 pm on Federal workdays.

For a copy of the petition, write: David L. Meyer, Chief, Rules and Directives Branch, Division of Administrative Services, Office of Administration, U.S. Nuclear Regulatory Commission, Washington, DC 20555-0001. Documents related to this action are available for public inspection at the NRC Public Document Room (PDR) located at the Gelman Building, 2012 L Street, NW, Washington, DC 20555. Documents created or received at the NRC after November 1, 1999 are also available electronically at the NRC's Public Electronic Reading Room on the Internet at http://www.nrc.gov/NRC/ ADAMS/index.html. From this site, the public can gain entry into the NRC's Agencywide Document Access and Management System (ADAMS), which provides text and image files of NRC's public documents. For more information, contact the NRC Public Document Room (PDR) Reference staff at 1-800-397-4209, or 202-634-3273, or by email to pdr@nrc.gov.

You may also provide comments via the NRC's interactive rulemaking website through the NRC home page (http://ruleforum.llnl.gov). This site provides the availability to view and upload comments as files (any format), if your web browser supports that function. For information about the interactive rulemaking website, contact Ms. Carol Gallagher, (301) 415-5905 (e-mail: CAG@nrc.gov).

FOR FURTHER INFORMATION CONTACT: David L. Meyer, Office of Administration, U.S. Nuclear Regulatory Commission, Washington, DC 20555. Telephone: 301-415-7162 or Toll Free: 1-800-368-5642 or E-mail: DLM1@NRC.GOV.

SUPPLEMENTARY INFORMATION:

Background

The Nuclear Regulatory Commission received a petition for rulemaking dated May 3, 2000, submitted by the Union of Concerned Scientists (petitioner). The petitioner requests that the regulations governing renewal of operating licenses for nuclear power plants in 10 CFR parts 51 and 54 be amended to address potential concerns relating to degradation through aging of piping and components of liquid and gaseous radioactive waste systems at operating nuclear power plants. This petition was included as part of a document in which the petitioner details concerns related to the review of the license renewal application submitted by the owner of the Hatch Nuclear Plant. Specifically, the petitioner is concerned that the license renewal application for the Hatch facility has not addressed deficiencies it believes exists in the aging management of the liquid and gaseous radioactive waste (radwaste) systems. The petitioner concludes that the requirements pertaining to renewal of operating licenses for nuclear power plants do not adequately address degradation from aging of liquid and gaseous radioactive waste systems. The petitioner requests that the regulations in 10 CFR part 51 and part 54 be amended to clarify that liquid and gaseous radioactive waste systems must be covered by aging management programs during license renewal periods.

The NRC has determined that the petition meets the threshold sufficiency requirements for a petition for rulemaking under 10 CFR 2.802. The petition has been docketed as PRM-54-1. The NRC is soliciting public comment on the petition for rulemaking.

Discussion of the Petition

The petitioner states that in 10 CFR part 51, appendix B to subpart A, “Environmental Effect of Renewing the Operating License of a Nuclear Power Plant,” the NRC concluded that radiation exposures to the public and occupational exposures to workers during the license renewal term will continue at levels below regulatory limits. The petitioner believes that this conclusion is based on an assumption that the piping and components of the liquid and gaseous radioactive waste systems at nuclear power plants do not experience greater failure rates during the license renewal term.

Using the case of a recent license renewal application, the petitioner cites the Hatch Nuclear Plant as an example in contending that the plant is being operated outside its design and licensing bases because the material condition of piping and components of the liquid (Contention No. 1) and gaseous (Contention No. 2) radioactive waste systems are not being properly inspected and maintained. In its request for a generic communication by the NRC to all nuclear power plant owners about potential aging degradation of liquid and gaseous radioactive waste systems, the petitioner indicates that the Millstone facility received an Information Notice in 1979 regarding liquid radwaste system problems that the petitioner believes was ignored. The petitioner notes that in 1996 the Millstone facility received another Information Notice also regarding degradation problems with the liquid radwaste system.

The petitioner believes that from its review of the license renewal applications submitted by the owners of the Calvert Cliffs, Oconee, and Hatch facilities, it appears that 10 CFR 54.4(a)(1)(iii) has been interpreted to exclude the liquid and gaseous radioactive waste systems from aging management consideration. The petitioner requests that NRC amend 10 CFR parts 51 and 54 to clarify that the liquid and gaseous radioactive waste systems must be covered by aging management programs during the license renewal term. The petitioner believes that regulations imposing aging management for these systems are necessary to ensure that these systems do not experience greater failure rates that could result in an increased probability and/or consequences from design bases events.

The Petitioner's Conclusions

The petitioner has concluded that the NRC requirements governing renewal of operating licenses of nuclear power facilities do not adequately address degradation that may result from aging of liquid and gaseous radioactive waste systems. The petitioner has also concluded that the degradation by aging of these systems may result in an increased probability of adverse consequences from design and licensing bases events. The petitioner requests that the regulations in 10 CFR part 54 and part 51, if appropriate, be amended to clarify that liquid and gaseous radwaste systems must be covered by aging management programs during the license renewal term of an operating nuclear power facility.

Dated at Rockville, Maryland, this 3rd day of July, 2000.
For the Nuclear Regulatory Commission.
Andrew L. Bates,
Acting Secretary of the Commission.

[FR Doc. 00-17340 Filed 7-7-00; 8:45 am]

BILLING CODE 7590-01-P